ENVIRONMENTAL PROTECTION AGENCY

40 CFR Part 52

[EPA-R09-OAR-2021-0623; FRL-8997-02-R9]

Air Plan Approval; Arizona, California, Nevada; Emissions Statements Requirements

AGENCY: Environmental Protection Agency (EPA).

ACTION: Final rule.

SUMMARY: The Environmental Protection Agency (EPA) is taking final action to approve revisions, under the Clean Air Act (CAA or “Act”), to portions of the Arizona, California, and Nevada State Implementation Plans (SIPs) regarding emissions statements (ES) requirements for the 2015 ozone national ambient air quality standards (NAAQS). We are also taking final action to approve ES certifications (“certifications”) adopted by various California air districts that existing SIP-approved rules are adequate to meet the ES requirements for the 2015 ozone NAAQS. In addition, we are finalizing our proposal that the following Arizona, California, and Nevada nonattainment areas (NAAs) meet the ES requirements for the 2015 ozone NAAQS: Phoenix-Mesa, Yuma, Amador County, Butte County, Imperial County, Los Angeles-San Bernardino Counties (West Mojave Desert), Los Angeles-South Coast Air Basin, Nevada County (Western part), Riverside County (Coachella Valley), Sacramento Metro, San Diego County, San Francisco Bay Area, San Joaquin Valley, San Luis Obispo (Eastern part), Sutter Buttes, Tuolumne County, Ventura County, and Las Vegas. We are also finalizing our proposal that two NAAs meet requirements for prior ozone NAAQS. Lastly, we are finalizing our proposal that Maricopa County Air Quality District (MCAQD) Rule 100, section 503, which we approved on February 15, 2022, meets the ES requirements for the 2015 ozone NAAQS.

DATES: This rule is effective August 29, 2022.

ADDRESSES: The EPA has established a docket for this action under Docket ID No. EPA-R09-OAR-2021-0623. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Sina Schwenk-Mueller, EPA Region IX, 75 Hawthorne St., San Francisco, CA 94105. By phone: (415) 947-4100 or by email at SchwenkMueller.Sina@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On December 14, 2021 (86 FR 70996), the EPA proposed to approve the following rules into their respective state SIPs.

Table 1—Submitted Rules
Agency | Rule No. | Rule title | Adopted/ revised | Submitted | Deemed complete
Arizona Department of Environmental Quality (ADEQ) | Arizona Administrative Code (AAC) R18-2-327 | Annual Emissions Inventory Questionnaire and Emissions Statement | ᵃ 12/4/2020 | 12/22/2020 | Complete by Operation of Law (COL), 6/22/2020.
Pinal County Air Quality Control District (AQCD) | Rule 3-1-103 | Annual Emissions Inventory Questionnaire and Emissions Statement | 7/1/2020 | 7/21/2020 | COL, 1/21/2021.
Amador Air District | Rule 428 | Emissions Statements | 3/16/2021 | 6/10/2021 | Letter, 9/25/2021.
Butte County Air Quality Management District (AQMD) | Rule 434 | Emissions Statements | 6/25/2020 | 7/27/2020 | COL, 1/27/2021.
El Dorado County AQMD | Rule 1000 | Emission Statement | 8/25/2020 | 9/22/2020 | COL, 3/22/2021.
El Dorado County AQMD | Rule 1000.1 ᵇ | Emission Statement Waiver | 8/25/2020 | 9/22/2020 | COL, 3/22/2021.
Feather River AQMD | Rule 4.8 | Further Information | 8/3/2020 | 12/15/2020 | COL, 6/15/2021.
Imperial County Air Pollution Control District (APCD) | Rule 116 | Emissions Statement and Certification | 11/3/2020 | 2/19/2021 | COL, 8/19/2021.
Placer County APCD | Rule 503 | Emission Statement | 10/8/2020 | 12/15/2020 | COL, 6/15/2021.
San Luis Obispo County AQMD | Rule 222 | Federal Emission Statement | 6/24/2020 | 7/27/2020 | COL, 1/27/2021.
Tuolumne County APCD | Rule 428 | Emissions Statements | 7/21/2020 | 8/3/2020 | COL, 2/3/2021.
Clark County Division of Air Quality | Section 12.9.1 ᶜ | Annual Emissions Statement | ᵈ 8/18/2020 | 10/15/2020 | COL, 4/15/2021.
ᵃ The effectiveness date of this rulemaking is 1/19/2021.
ᵇ Our proposed action incorrectly listed this rule number as 1001.1. The correct rule number is 1000.1.
ᶜ NDEP submitted Section 12.9 “Annual Emissions Statement and Inventory Requirements,” which includes 12.9.1 “Annual Emissions Statement” and 12.9.2 and 12.9.3. On 1/24/2022, NDEP withdrew 12.9.2 and 12.9.3 from SIP consideration.
ᵈ State effective date.

On December 14, 2021 (86 FR 70996), the EPA proposed to approve the following emissions statements certifications into the California SIP.

¹ All certifications in this table were submitted by the State of California. The “Adopted” and “Submitted” and “Deemed Complete” dates listed in Table 2 refer to those of the certifications.

Table 2—Submitted Emissions Statements Certifications
[2015 Ozone NAAQS] ¹
Local agency | Existing SIP approved Rule No. | Rule title | Adopted | Submitted | Deemed complete
Antelope Valley AQMD | Rule 107 (2012); 78 FR 21545 (April 11, 2013) | Certification of Submissions and Emission Statements | 7/21/2020 | 8/3/2020 | COL, 2/3/2021.
Mojave Desert AQMD | Rule 107 (1992); 69 FR 29880 (May 26, 2004) | Certification and Emission Statements | 10/28/2019 | 12/20/2019 | COL, 6/20/2020.
Northern Sierra AQMD | Rule 513 (2016); 82 FR 28240 (June 21, 2017) ᵃ | Emissions Statements and Recordkeeping | 1/25/2021 | 3/23/2021 | COL, 9/23/2021.
Sacramento Metropolitan AQMD | Rule 105 (1996) 73 FR 32240 (June 6, 2008) | Emissions Statement | 7/23/2020 | 8/3/2020 | COL, 2/3/2021.
San Diego County APCD | Rule 19.3 (1996); 65 FR 12472 (March 9, 2000) | Emissions Information | 10/14/2020 | 1/12/2021 | COL, 7/12/2021.
San Francisco Bay Area AQMD | Reg 2—Permits 2-1-429 (2004); 83 FR 23372 (May 21, 2018) | Federal Emissions Statement | 7/15/2020 | 8/3/2020 | COL, 2/3/2021.
San Joaquin Valley APCD | Rule 1160 (1992); 84 FR 3302 (February 12, 2019) | Emissions Statements (1992) | 6/18/2020 | 8/3/2020 | COL, 2/3/2021.
South Coast AQMD | Rule 301 (2019); 84 FR 52005 (October 1, 2019) ᵇ | Permitting and Associated Fees (paragraphs (e)(1), except (e)(1)(C), (e)(2), (5), and (8) only) | 6/5/2020 | 8/3/2020 | COL, 2/3/2021.
Ventura County APCD | Rule 24 (1992); 65 FR 76567 (December 7, 2000) | Source Recordkeeping, Reporting and Emissions Statements | 7/14/2020 | 7/29/2020 | COL, 1/29/2021.
Yolo-Solano AQMD | Rule 3.18 (1992); 69 FR 29880 (May 26, 2004) | Emissions Statements | 9/9/2020 | 11/2/2020 | COL, 5/2/2021.
ᵃ We note that in our December 11, 2017 action, Findings of Failure to Submit State Implementation Plan Submittals for the 2008 Ozone National Ambient Air Quality Standards (NAAQS) (82 FR 58118), we erroneously listed the “Emission statement” requirement for Nevada County (Western part) in Table 1—Findings of Failure to Submit Certain Required SIP Elements for 2008 Ozone NAAQS Nonattainment Areas.
ᵇ South Coast AQMD has jurisdiction over Riverside (Coachella), and Rule 301 applies to both the South Coast Air Basin and the Riverside (Coachella) NAAs.

In addition to the certifications for the 2015 ozone NAAQS, the San Francisco Bay Area AQMD is certifying that Reg 2—Permits 2-1-429 meets section 182(a)(3)(B) requirements for the 1997 and 2008 ozone NAAQS, and the San Diego County APCD is certifying that Rule 19.3 meets section 182(a)(3)(B) requirements for the 2008 ozone NAAQS.

We are finalizing approval of these rules and certifications because we determined that they comply with the relevant CAA requirements. Our proposed action contains more information on our evaluation of the rules and certifications.

II. Public Comments and EPA Responses

The EPA's proposed action provided a 30-day public comment period. During this period, we received one comment.

Comment: The commenter expresses support for air pollution control and states that it is important that all the listed counties in our proposal maintain stringent emission standards. However, the commenter is concerned that the SIP is not approved to apply on any Indian reservation or in any other area where a tribe has jurisdiction. The commenter worries that this could provide loopholes to pollute on tribal reservations and wants to know if tribes want to be excluded from state emission control measures.

Response: The comment refers to the EPA's statement that “the SIP is not approved to apply on any Indian reservation land or in any other area where the EPA or an Indian tribe has demonstrated that a tribe has jurisdiction.” The EPA typically uses such statements in actions regarding state SIP submittals to explain the non-applicability of the SIP in relevant areas of Indian country as a jurisdictional matter. The States of Arizona, California, and Nevada submitted the rules in this action to apply only on lands where the States and relevant local agencies have jurisdiction. Under the Clean Air Act, states generally lack jurisdiction to implement plans over Indian reservations and other areas of Indian country where the EPA or a tribe has demonstrated tribal jurisdiction. For this reason, the EPA typically excludes such areas from its approvals of SIPs. The commenter's concern regarding the inapplicability of the SIP in areas where an Indian tribe has jurisdiction does not bear upon whether the rules that are the subject of our action meet the applicable requirements for approval of a SIP submission. Therefore, we do not find that the comment provides a basis for the EPA to change its assessment of the submitted rules or our proposal to approve them.

III. EPA Action

No comments were submitted that change our assessment of the rules and certifications as described in our proposed action. Therefore, as authorized in section 110(k)(3) of the Act, the EPA fully approves the submitted rules and certifications because they fulfill all relevant requirements. We are finalizing our proposed approval that the following 2015 ozone nonattainment areas have met CAA section 182(a)(3)(B) requirements: Phoenix-Mesa, AZ; Yuma, AZ; Amador County, CA; Butte County, CA; Imperial County, CA; Los Angeles-San Bernardino Counties, CA (West Mojave Desert); Los Angeles-South Coast Air Basin, CA; Nevada County (Western part), CA; Riverside County (Coachella Valley) CA; Sacramento Metro, CA; San Diego County, CA; San Francisco Bay Area, CA; San Joaquin Valley, CA; San Luis Obispo (Eastern part), CA; Sutter Buttes, CA; Tuolumne, County, CA; Ventura County, CA; and Las Vegas, NV. We are also finalizing our proposed approval that the San Francisco Bay Area NAA meets the emissions statements requirements for the 1997 and 2008 ozone NAAQS, and the San Diego County NAA meets these requirements for the 2008 ozone NAAQS. Lastly, we are finalizing our proposal that MCAQD Rule 100, section 503, which the EPA finalized in a separate action on February 15, 2022 (87 FR 8418), meets the emissions statements requirements for the 2015 ozone NAAQS.

IV. Incorporation by Reference

In this rule, the EPA is finalizing regulatory text that includes incorporation by reference. In accordance with requirements of 1 CFR 51.5, the EPA is finalizing the incorporation by reference of the California rules described in section I of this preamble and set forth below in the amendments to 40 CFR part 52. For the States of Arizona and Nevada, the rules described in section I of the preamble and set forth below in the amendments to 40 CFR part 52 have been approved by the EPA for inclusion in the SIP, have been incorporated by reference by the EPA into that plan, are fully federally enforceable under sections 110 and 113 of the CAA as of the effective date of the final rulemaking of the EPA's approval, and will be incorporated by reference in the next update to the SIP compilation.² The EPA has made, and will continue to make, these documents available through www.regulations.gov and at the EPA Region IX Office (please contact the person identified in the FOR FURTHER INFORMATION CONTACT section of this preamble for more information).

² 62 FR 27968 (May 22, 1997).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 27, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: July 20, 2022.
Kerry Drake,
Acting Regional Administrator, Region IX.

For the reasons stated in the preamble, the Environmental Protection Agency amends Part 52, chapter I, title 40 of the Code of Federal Regulations as follows:

PART 52—APPROVAL AND PROMULGATION OF IMPLEMENTATION PLANS

1. The authority citation for part 52 continues to read as follows:

Authority: 42 U.S.C. 7401 et seq.

Subpart D—Arizona

2. In § 52.120, paragraph (c):

a. Amend Table 2 is amended by revising the entry “R18-2-327”; and

b. Amend Table 9 by revising the entry “3-1-103”.

The revisions read as follows:

§ 52.120 Identification of plan.

* * * * *

(c) * * *

Table 2—EPA-Approved Arizona Regulations
State citation | Title/subject | State effective date | EPA approval date | Additional explanation
* * * * * * *
Article 3 (Permits and Permit Revisions)
* * * * * * *
R18-2-327 | Annual Emissions Inventory Questionnaire and Emissions Statement | 1/19/2021 | [INSERT Federal Register CITATION], July 29, 2022 | Submitted on December 22, 2020.
* * * * * * *

* * * * *

Table 9—EPA-Approved Pinal County Air Pollution Control Regulations
State citation | Title/subject | State effective date | EPA approval date | Additional explanation
* * * * * * *
Chapter 3. Permits and Permit Revisions
* * * * * * *
3-1-103 | Annual emissions inventory questionnaire and emissions statement | 7/1/2020 | [INSERT Federal Register CITATION], July 29, 2022 | Submitted on July 21, 2020.
* * * * * * *

* * * * *

Subpart F—California

3. Section 52.220 is amended by adding paragraphs (c)(190)(i)(C)(3), (C)(4) and (D)(2), (c)(381)(i)(A)(8), (c)(389)(i)(B)(6), (c)(442)(i)(G)(2), (c)(457)(i)(D)(2), (c)(562)(i)(A)(2), (c)(573), (574), (575), (576), (577), (578), (579), (580), (581), (582) and (583) to read as follows:

§ 52.220 Identification of plan-in part.

* * * * *

(c) * * *

(190) * * *

(i) * * *

(C) * * *

(3) Previously approved on May 26, 2004 in paragraph (c)(190)(i)(C)(1) of this section and now deleted with replacement in (c)(575)(i)(A)(1), Rule 1000 adopted on September 21, 1992.

(4) Previously approved on May 26, 2004 and added in an error correction on August 29, 2019, in paragraph (c)(190)(i)(C)(2) of this section and now deleted with replacement in (c)(575)(i)(A)(2), Rule 1000.1 adopted on September 21, 1992.

(D) * * *

(2) Previously approved on May 26, 2004 in paragraph (c)(190)(i)(D)(1) of this section and now deleted with replacement in (c)(576)(i)(A)(1), Rule 4.8 adopted on September 14, 1992.

* * * * *

(381) * * *

(i) * * *

(A) * * *

(8) Previously approved on December 7, 2012 in paragraph (c)(381)(i)(A)(6) of this section and now deleted with replacement in (c)(583)(i)(A)(1), Rule 116, “Emissions Statement and Certification,” adopted on February 23, 2010.

* * * * *

(389) * * *

(i) * * *

(B) * * *

(6) Previously approved on December 7, 2012 in paragraph (c)(389)(i)(B)(4) of this section and now deleted with replacement in (c)(576)(i)(B)(1), Rule 503, “Emission Statement,” amended on August 12, 2010.

* * * * *

(442) * * *

(i) * * *

(G) * * *

(2) Previously approved on June 11, 2015 in paragraph (c)(442)(i)(G)(1) of this section and now deleted with replacement in (c)(573)(i)(A)(1), Rule 434, “Emission Statements,” adopted on April 25, 2013.

* * * * *

(457) * * *

(i) * * *

(D) * * *

(2) Previously approved on June 11, 2015 in paragraph (c)(457)(i)(D)(1) of this section and now deleted with replacement in (c)(573)(i)(B)(1), Rule 222, “Federal Emission Statement,” adopted on May 28, 2014.

* * * * *

(562) * * *

(i) * * *

(A) * * *

(2) Rule 116, “Emission Statement and Certification,” revised on November 3, 2020.

* * * * *

(573) Amended regulations for the following APCDs were submitted on July 27, 2020 by the Governor's designee as an attachment to a letter dated July 23, 2020.

(i) Incorporation by reference. (A) Butte County Air Quality Management District.

(1) Rule 434, “Emission Statements,” amended on June 25, 2020.

(2) [Reserved]

(B) San Luis Obispo County Air Pollution Control District.

(1) Rule 222, “Federal Emission Statement,” revised on June 24, 2020.

(2) [Reserved]

(ii) [Reserved]

(574) New and amended regulations and materials for the following APCDs were submitted on August 3, 2020 by the Governor's designee as an attachment to a letter dated August 3, 2020.

(i) Incorporation by reference. (A) Tuolumne County Air Pollution Control District.

(1) Rule 428, “Emission Statements,” adopted on July 21, 2020.

(2) [Reserved]

(B) [Reserved]

(ii) Additional materials. (A) Antelope Valley Air Quality Management District.

(1) “Emission Statement Certification,” adopted July 21, 2020.

(2) [Reserved]

(B) Sacramento Metropolitan Air Quality Management District.

(1) “Emissions Statements Certification for the 2015 Ozone NAAQS,” adopted July 23, 2020.

(2) [Reserved]

(C) San Francisco Bay Area Air Quality Management District.

(1) “Clean Air Act Emissions Statement Certification,” adopted July 15, 2020.

(2) [Reserved]

(D) San Joaquin Valley Unified Air Pollution Control District.

(1) “Emissions Statement Program Certification for the 2015 8-Hour Ozone Standard,” adopted June 18, 2020.

(2) [Reserved]

(E) South Coast Air Quality Management District.

(1) “Emissions Statement Certification,” adopted June 5, 2020.

(2) [Reserved]

(575) Amended regulations for the following APCDs were submitted on September 22, 2020 by the Governor's designee as an attachment to a letter dated September 18, 2020.

(i) Incorporation by reference.

(A) El Dorado County Air Quality Management District.

(1) Rule 1000, “Emission Statement,” revised on August 25, 2020.

(2) Rule 1000.1, “Emission Statement Waiver,” revised on August 25, 2020.

(B) [Reserved]

(ii) [Reserved]

(576) Amended regulations for the following APCDs were submitted on December 15, 2020 by the Governor's designee as an attachment to a letter dated December 14, 2020.

(i) Incorporation by reference. (A) Feather River Air Quality Management District.

(1) Rule 4.8, “Further Information,” amended on August 3, 2020.

(2) [Reserved]

(B) Placer County Air Pollution Control District.

(1) Rule 503, “Emission Statement,” amended on October 8, 2020.

(2) [Reserved]

(ii) [Reserved]

(577) Amended regulations for the following APCDs were submitted on June 10, 2021 by the Governor's designee as an attachment to a letter dated June 10, 2021.

(i) Incorporation by reference.

(A) Amador Air District.

(1) Rule 428, “Emissions Statements,” adopted on March 16, 2021.

(2) [Reserved]

(B) [Reserved]

(ii) [Reserved]

(578) The following plan was submitted on December 20, 2019 by the Governor's designee.

(i) [Reserved]

(ii) Additional materials. (A) Mojave Desert Air Quality Management District.

(1) “Emission Statement Certification,” adopted October 28, 2019.

(2) [Reserved]

(B) [Reserved]

(579) The following plan was submitted on July 29, 2020 by the Governor's designee.

(i) [Reserved]

(ii) Additional materials.(A) Ventura County Air Pollution Control District.

(1) “2020 Emissions Statement Certification for Ventura County, California,” adopted July 14, 2020.

(2) [Reserved]

(B) [Reserved]

(580) The following plan was submitted on November 2, 2020 by the Governor's designee.

(i) [Reserved]

(ii) Additional materials. (A) Yolo-Solano Air Quality Management District.

(1) “2015 Federal Ozone Standard Emissions Statement Certification for the Yolo-Solano Air Quality Management District,” adopted September 9, 2020.

(2) [Reserved]

(B) [Reserved]

(581) The following plan was submitted on January 12, 2021 by the Governor's designee.

(i) [Reserved]

(ii) Additional materials. (A) San Diego County Air Pollution Control District.

(1) “Emissions Statement Rule Certification,” adopted October 14, 2020.

(2) [Reserved]

(B) [Reserved]

(582) The following plan was submitted on March 23, 2021 by the Governor's designee.

(i) [Reserved]

(ii) Additional materials. (A) Northern Sierra Air Quality Management District.

(1) “Certification of Emissions Statements Rule Adequacy,” adopted January 25, 2021.

(2) [Reserved]

(B) [Reserved]

(583) Amended regulations for the following APCD were submitted on February 19, 2021 by the Governor's designee as an attachment to a letter dated February 18, 2021.

(i) Incorporation by reference. (A) Imperial County Air Pollution Control District.

(1) Rule 116, “Emissions Statement and Certification,” revised on November 3, 2020.

(2) [Reserved]

(B) [Reserved]

(ii) [Reserved]

Subpart DD—Nevada

4. In § 52.1470, Table 3 is amended by adding an entry for “Section 12.9.1” after the entry for “Section 12.7: Subsection 12.7.5” to read as follows:

(c) * * *

* * * * *

Table 3—EPA-Approved Clark County Regulations
State citation | Title/subject | State effective date | EPA approval date | Additional explanation
* * * * * * *
Section 12.9.1 | Annual Emissions Statement | 8/18/2020 | [INSERT Federal Register CITATION], July 29, 2022 | Submitted on October 15, 2020.
* * * * * * *

* * * * *

[FR Doc. 2022-16025 Filed 7-28-22; 8:45 am]

BILLING CODE 6560-50-P